SECURITIES AND EXCHANGE COMMISSION

Request for Public Comment

Upon Written Request, Copies Available from: Securities and Exchange Commission, Office of Filings and Information Services, Washington, DC 20549.

Extension:

Form N-8F, Form S-6—OMB Control No. 3235-0157, SEC File No. 270-136; OMB Control No. 3235-0184, SEC File No. 270-181

Notice is hereby given that pursuant to the Paperwork Reduction Act of 1995 (44 U.S.C. 3501 et seq.) the Securities and Exchange Commission (“Commission”) is publishing for public comment the following summary of previously approved information collection requirements. The Commission plans to submit these existing collections of information to the Officer of Management and Budget for extension and approval.

Form N-8F is the form prescribed for use by registered investment companies in certain circumstances to request orders of the Commission declaring that the registration of that investment company cease to be in effect. The form requests, from investment companies seeking a deregistration order, information about (i) the investment company's identity, (ii) the investment company's distributions, (iii) the investment company's assets and liabilities, (iv) the events leading to the request to deregister, and (v) the conclusion of business. The information is needed by the Commission to determine whether an order of deregistration is appropriate.

Form N-8F takes approximately 3 hours on average to complete. It is estimated that approximately 200 investment companies file Form N-8F annually, so that the total annual burden for the form is estimated to be 600 hours.

Form S-6 is used for registering, under the Securities Act of 1933 (1933 Act), the securities of any unit investment trust registered under the Investment Company Act of 1940 (1940 Act) on Form N-8B-2.¹ A separate registration statement under the 1933 Act must be filed for each series of units issued by the trust. Form S-6 consists of two parts. Part I contains the prospectus, and Part II consists of a list of exhibits and financial information and contains other information required in the registration statement but not required to appear in the prospectus.

¹ Form N-8B-2 is the form used for registration statements filed by unit investment trusts under the 1940 Act. The form requires that certain material information about the trust, its sponsor, its trustees, and its operation be disclosed. The registration on Form N-8B-2 is a one-time filing that applies to the first series of the unit investment trust as well as any subsequent series that is issued by the sponsor.

Sectiion 10(a)(3) of the 1933 Act (15 U.S.C. 77j(a)(3)) provides that when a prospectus is used more than nine months after the effective date of the registration statement, the information therein shall be as of a date not more than sixteen months prior to such use. Unit investment trusts file post-effective amendments to their registration statements on Form S-6 in order to update their prospectus. As a result, most unit investment trusts update their registration statements on Form S-6 Act on an annual basis in order that their sponsors may continue to maintain a secondary market in the units.

The purpose of the registration statement on Form S-6 is to provide disclosure of financial and other information that investors may use to make informed decisions regarding the merits of the securities offered for sale. To that end, unit investment trusts must furnish to investors a prospectus containing pertinent information set forth in the registration statement. Without the registration requirement, this material information would not necessarily be available to investors. The Commission reviews registration statements filed on Form S-6 to ensure adequate disclosure is made to investors.

Each year investment companies file approximately 3,639 Forms S-6. It is estimated that preparing Form S-6 requires a unit investment trust to spend approximately 35 hours so that the total burden on preparing Form S-6 for all affected investment companies is 127,365 hours.

Estimates of average burden hours are made solely for the purposes of the Paperwork Reduction Act, and are not derived from a comprehensive or even a representative survey or study of the costs of Commission rules and forms.

Written comments are requested on: (a) Whether the collections of information necessary for the proper performance of the functions of the Commission, including whether the information has practical utility; (b) the accuracy of the Commission's estimate of the burdens of the collection of information; (c) ways to enhance the quality, utility and clarity of the information collection; and (d) ways to minimize the burden of the collection of information on respondents, including through the use of automated collection techniques or other forms of information technology. Consideration will be given to comments and suggestions submitted in writing within 60 days of this publication.

Direct your written comments to Michael E. Bartell, Associate Executive Director, Office of Information Technology, Securities and Exchange Commission, 450 5th Street, NW., Washington, DC 20549.

Dated: October 26, 2001.
Margaret H. McFarland,
Deputy Secretary.

[FR Doc. 01-27709 Filed 11-2-01; 8:45 am]

BILLING CODE 8010-01-M